DEPARTMENT OF COMMERCE

National Telecommunications and Information Administration

Open RAN Certification Principles Listening Session

AGENCY: National Telecommunications and Information Administration, U.S. Department of Commerce.

ACTION: Notice of open meeting.

SUMMARY: The National Telecommunications and Information Administration (NTIA), on behalf of the Global Coalition on Telecommunications (GCOT), will convene a virtual industry listening session on Open RAN Certification Principles. The listening session is designed to collect stakeholder input to help inform the development of GCOT Open RAN Certification Principles.

DATES: The listening session will be held at the following time:

• December 3, 2024, from 9 a.m. EST to 11 a.m. EST.

ADDRESSES: The session will be held virtually, with online slide share and dial-in information to be posted at https://www.ntia.gov/.

FOR FURTHER INFORMATION CONTACT: Please direct questions regarding this Notice to kdimsdale@ntia.gov, indicating “GCOT Certification Principles Listening Session” in the subject line, or if by mail, addressed to National Telecommunications and Information Administration, U.S. Department of Commerce, 1401 Constitution Avenue NW, Washington, DC 20230; telephone: 202-482-1866. Please direct media inquiries to NTIA's Office of Public Affairs, press@ntia.gov or (202) 482-7002.

SUPPLEMENTARY INFORMATION:

Background

In October 2023, the Department for Science, Innovation and Technology (United Kingdom); the Department of Infrastructure, Transport, Regional Development, Communications and the Arts (Australia); the Department of Innovation, Science and Economic Development (Canada); the Ministry of Internal Affairs and Communications (Japan); and NTIA (USA) announced their commitment to establish the Global Coalition on Telecommunications (GCOT). GCOT is the most comprehensive grouping of likeminded partners on a range of telecommunications-related topics, including telecommunications supplier diversity. GCOT will complement the work of other domestic and international groupings.

GCOT aims to: ¹

¹ Global Coalition on Telecommunications Joint Statement of Intent between UK, Australia, Canada, Japan, and US: https://www.gov.uk/government/publications/global-coalition-on-telecommunications-joint-statement-of-intent-between-uk-australia-canada-japan-and-us.

• Increase cooperation and coordination between the GCOT partners on telecommunications, including by improving information sharing with a view to ensuring complementary national approaches;

• Build broader international consensus on key areas of telecommunications policy in support of our shared objectives;

• Enable dialogue between policymakers, industry, and academia; and

• Promote innovation and growth opportunities for industry

In order to enact these goals, GCOT intends to explore engagements that will enhance information sharing, support joint research and development, ensure alignment of funding priorities, support vision setting and standards development, and enhance coordination on international outreach and collaboration. GCOT's immediate areas of focus are on telecommunications supply chain diversification and 6G and future telecommunications.

GCOT Certification Principles: On behalf of all GCOT partners, NTIA, in collaboration with the U.S. Department of State's Bureau of Cyberspace and Digital Policy (CDP), Innovation, Science, and Economic Development Canada (ISED), and the United Kingdom's Department for Science, Innovation, and Technology (DSIT) is in the process of developing certification principles on Open RAN. These principles are intended to serve as a voluntary framework of recommendations for the telecommunications industry to develop a robust certification program to advance the maturity of the Open RAN market and ensure that certified Open RAN products are open, interoperable, and resilient. The discussions held at this session will be analyzed to help inform development of GCOT Certification Principles.

The discussion will focus on the key areas of the GCOT Certification Principles paper which include certification governance and integrity, cost-effective implementation, and facilitating adoption, as described below:

Certification Governance and Integrity

• Suggests roles and responsibilities for all Open RAN ecosystem stakeholders;

• Identifies different sources (from bodies like 3GPP and the O-RAN Alliance);

• Addresses the various types of testing including conformance, interoperability, performance, and security;

• Enumerates the development, governance, and oversight expected from a certification regime; and

• Provides a general overview of transparency, accreditation, and continuous improvement.

Cost-Effective Implementation

• Discusses accessibility for all small and medium-sized enterprises to meet certification standards;

• Highlights the importance of integrating automation and leveraging existing resources; and

• Proposes a possible certification structure and scope and a path for recertification.

Facilitating Adoption

• Outlines the necessary support for MNOs and other Open RAN ecosystem stakeholders for the success of any certification in procurement processes; and

• Describes how industry and government can generally support the process.

Authority: NTIA's role in development of the GCOT certification principles is under authority of the National Telecommunications and Information Administration Organization Act (47 U.S.C. 902 et seq.).²

² Specific authority can be found in 47 U.S.C. 902(b)(2)(G)(i).

Time and Date: NTIA will convene one public listening session on December 3, 2024, from 9 a.m. to 11:00 a.m. Eastern Standard Time. The exact time of the meeting is subject to change. Please refer to NTIA's website, https://www.ntia.gov, for the most current information.

Place: The meeting will be held virtually, with online slide share and dial-in information to be posted at https://www.ntia.gov. Please refer to NTIA's website, https://www.ntia.gov, for the most current information.

Other Information: The meeting is open to the public and the press on a first-come, first-served basis and will be held in English. The virtual meeting is accessible to people with disabilities. Individuals requiring accommodations such as real-time captioning, sign language interpretation or other ancillary aids should notify NTIA at kdimsdale@ntia.gov at least seven (7) business days prior to the meeting. Access details for the meeting are subject to change. Please refer to NTIA's website, https://www.ntia.gov, for the most current information.

Dated: November 14, 2024.
Stephanie Weiner,
Chief Counsel, National Telecommunications and Information Administration.

[FR Doc. 2024-27146 Filed 11-20-24; 8:45 am]

BILLING CODE 3510-60-P